DEPARTMENT OF HEALTH AND HUMAN SERVICES

Office of the Secretary

Comment Period and Public Meeting: Framework Convention on Tobacco Control

AGENCY: Office of Public Health and Science, DHHS.

ACTION: Notice of comment period and public meeting.

SUMMARY: During the last two weeks in March, the Department of Health and Human Services is soliciting comments on the Framework Convention on Tobacco Control (FCTC), a proposed international legal instrument intended to address the global problem of tobacco use. Individuals and organizations are encouraged to comment on the FCTC in one or both of the following ways: (1) In writing, by submission through the mails, courier service, or email; (2) in person, at a public meeting that will be convened in Washington, DC.

Comments that are received will assist the U.S. government to understand the perspectives of various organizations and individuals on the Framework Convention on Tobacco Control (FCTC). The comment period and public meeting are intended to give interested persons, including public health and medical professionals, state and local officials, farmers, retailers, manufacturers and others an opportunity to comment on the FCTC.

The comment period and meeting are open to the public. The meeting is limited by the time available for comments. The day long meeting will allow approximately 130 comments to be heard. Seating capacity is 300.

Those who wish to attend are encouraged to register early with the contact person listed below. If you will require a sign language interpreter, or have other special needs, please notify the contact person by 4:30 E.S.T. on March 9, 2000.

DATES: The comment period will be held from March 15-30, 2000. Comments can be submitted by mail or electronically (electronic submissions are encouraged). To submit electronic comments, send via e-mail to FCTC@cdc.gov.

ADDRESSES: To submit comments by mail, send to: FCTC Comments (Attn: Ms. Monica Swann), Office on Smoking and Health, 200 Independence Avenue, SW., Room 317-B, Washington, DC 20201.

The public meeting will be held on March 15, 2000, from 8:30 a.m. to 5 p.m. at the Ronald Reagan International Trade Center, 1300 Pennsylvania Avenue, Washington, DC 20004.

FOR FURTHER INFORMATION CONTACT: Ms. Monica Swann, Office on Smoking and Health, Centers for Disease Control, 200 Independence Avenue, SW., Room 317-B, Washington, DC 20201, (202) 205-8500, or e-mail FCTC@cdc.gov.

SUPPLEMENTARY INFORMATION: In May 1999, the World Health Assembly, the governing body of the World Health Organization, unanimously adopted resolution WHA 52.18 calling for negotiation of a Framework Convention on Tobacco Control support (FCTC). The United States joined other countries in voicing support for negotiation of the convention, which is intended to address the global problem of tobacco use.

The first meeting of the FCTC working group was held in Geneva in October 1999. From May 2000 through 2003, it is anticipated that an Intergovernmental Negotiating Body will be established to negotiate the text of the FCTC and related protocols. May 2003 is the target date for completion of the FCTC by the World Health Assembly. (Background documents on the FCTC are available on the World Health Organization's web site at http://www.who.int/toh/fctc/fctcintro.htm.)

It is anticipated that additional comment periods and public meetings will be convened before the completion of the FCTC.

If you would like to attend the public meeting, you are encouraged to register early by providing your name, title, firm name, address, and telephone number to Monica Swann (contact information above). The U.S. government encourages individuals to submit written comments electronically or by mail. Comments also will be accepted during the meeting. If you would like to speak at the meeting, please notify Monica Swann (address above) when you register. There is no registration fee for the meeting.

The transcript of the public meeting and submitted comments will be posted on the Internet at http://www.cdc.gov/tobacco. In addition, you may request a transcript of the public meeting from the Freedom of Information Act Officer at: Centers for Disease Control & Prevention, Attn: Lynn Armstrong, FOIA Officer, 1600 Clifton Road, NE, MS D54, Atlanta, GA 30333. The materials should be available approximately 15 working days after the meeting.

Dated: February 17, 2000.
David Satcher,
Assistant Secretary for Health and Surgeon General.

[FR Doc. 00-4388 Filed 2-24-00; 8:45 am]

BILLING CODE 4160-17-M